DEPARTMENT OF THE INTERIOR

Office of the Special Trustee for American Indians

Notice of Proposed Information Collection

AGENCY: Office of the Special Trustee for American Indians.

ACTION: Notice and request for comments.

SUMMARY: In compliance with section 3506(c)(2)(A) of the Paperwork Reduction Act of 1995, the Office of the Special Trustee for American Indians, Department of the Interior, announces the proposed extension of a public information collection required by The American Indian Trust Fund Management Reform Act of 1994, “Trust Funds for Tribes and Individual Indians, 25 CFR part 115,” OMB Control No. 1035-0004, and that it is seeking comments on its provisions. After public review, the Office of the Special Trustee for American Indians will submit the information collection to Office of Management and Budget for review and approval.

DATES: Consideration will be given to all comments received by October 2, 2006.

ADDRESSES: Written comments and recommendations on the proposed information collection should be sent to the Office of the Secretary, Information Collection Budget Officer, Sue Ellen Sloca, 1951 Constitution Avenue, NW., MS 120 SIB, Washington, DC 20240. Individuals providing comments should reference OMB Control Number 1035-0004, “Trust Funds for Tribes and Individual Indians, 25 CFR part 115,” OMB Control No. 1035-0004.

FOR FURTHER INFORMATION CONTACT: To request more information on this proposed information collection or to obtain a copy of the proposal and associated collection instrument, please write to the above address, or call Sue Ellen Sloca, on 202-208-6045, or e-mail her on sue_ellen_sloca@nbc.gov.

SUPPLEMENTARY INFORMATION:

I. Abstract

Office of Management and Budget (OMB) regulations at 5 CFR part 1320, which implement the Paperwork Reduction Act of 1995 (Pub. L. 104-13), require that interested members of the public and affected agencies have an opportunity to comment on information collection and recordkeeping activities (see 5 CFR 1320.8 (d)). This notice identifies an information collection activity that the Office of the Special Trustee for American Indians will submit to OMB for extension or re-approval.

Public Law 103-412, The American Indian Trust Fund Management Reform Act of 1994, makes provision for the Office of the Special Trustee for American Indians, within the Office of the Secretary, to administer trust funds on behalf of individual Indians and of Indian tribes. This information collection, which covers three different forms, and six different non-form occasions on which the Office of the Special Trustee is required by law to collect information from individual Indians and Indian Tribes, allows the Office of the Special Trustee to collect the information needed to establish and maintain trust accounts for individual Indians and Indian tribes. If this information were not collected, the Office of the Special Trustee would not be able to comply with The American Indian Trust Fund Management Reform Act of 1994, and the Office of the Special Trustee would not be able to carry out its fiduciary responsibilities to individual Indians and Indian tribes with respect to trust funds.

II. Data

(1) Title: Trust Funds for Tribes and Individual Indians, 25 CFR part 115.

OMB Control Number: 1035-0004.

Current Expiration Date: 10/31/2006.

Type of Review: Information Collection: Renewal.

Affected Entities: State, local, or tribal government.

Estimated annual number of respondents: 285,000.

Frequency of response: As needed.

(2) Annual reporting and recordkeeping burden.

Estimated number of responses annually: 677,675.

Total annual reporting: 472,214.

(3) Description of the need and use of the information: The statutorily-required information is needed to provide the Office of the Special Trustee with a vehicle to collect the information needed to establish and maintain trust accounts for individual Indians and Indian tribes.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: July 27, 2006.
Ross O. Swimmer,
Special Trustee for American Indians.

[FR Doc. E6-12490 Filed 8-2-06; 8:45 am]

BILLING CODE 4310-2W-P